DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Populations.

Time and Date:

8:30 a.m. to 5 p.m., February 11, 2002.

8:30 a.m. to 1 p.m., February 12, 2002.

Place: Hubert H. Humphrey Building, Room 705A, 200 Independence Avenue SW., Washington, DC 20201.

Status: Open.

Purpose: The Subcommittee on Populations, NCVHS, is holding a hearing on February 11-12, 2002 to discuss issues relating to statistics for the determination of health disparities in racial and ethnic populations. The focus will be large population-based surveys conducted by the federal government. Invited panelists will address the measurement of race and ethnicity, use of mixed race data, measurement of ethnic identity and perspectives on variables beyond race and ethnicity needed to determined health disparities in racial and ethnic groups.

Notice: In the interest of security, the Department has instituted stringent procedures for entrance to the Hubert H. Humphrey building by non-government employees. Thus, persons without a government identification card will need to have the guard call for an escort to the meeting.

For Further Information Contact: Substantive program information as well as summaries of meetings and a roster of committee members may be obtained from Susan G. Queen, Ph.D., Deputy Director, Division of Information and Analysis, Health Resources and Services Administration, Room 11-05, 5600 Fishers Lane, Rockville, MD 20857, telephone: (301) 443-1129; or Marjorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS Web site: http://www.ncvhs.hhs.gov/ where an agenda for the meeting will be posted when available.

Dated: January 30, 2002.
James Scanlon,
Director, Division of Data Policy, Office of the Assistant Secretary for Planning and Evaluation.

[FR Doc. 02-3251 Filed 2-8-02; 8:45 am]

BILLING CODE 4151-05-U